NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of remote field support and safety camps ashore while filming on the ice. The vessel Kapitan Dranitsyn will provide the main support of the expedition. The application is submitted to NSF pursuant to regulations issued under the Antarctic Conservation Act of 1978.

DATES: Interested parties are invited to submit written data, comments, or views with respect to this permit application by September 22, 2003. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the operation of an expedition to Antarctica. EZ Productions, Inc. will conduct filming operations in Antarctica using the Kapitan Dranitsyn as the main support platform. Basic toilet facilities will be taken onto the sea ice for use during filming and in case of emergency. Food preparation will mainly take place on the ship. Snacks and buffet style food will be taken to the filming locations during the day. This application is for all wastes generated off the ship, associated with the filming work at Cape Washington and environs (or alternate location at Coulman Island). Anything taken ashore will be removed from Antarctica and disposed of in a substitutable port of disembarkation. Cooking stoves/fuel will be used only in an emergency. Conditions of the permit would include requirements to report on the removal of materials and any accidental releases, and management of all waste, including human waste, in accordance with Antarctic waste regulations.

Application for the permit is made by: Hawk Koch, Co-Producer, EZ Productions, Inc., 9100 Wilshire Boulevard, Suite 401E, Beverly Hills, California 90212.

Location: Antarctic Peninsula Area.

Dates: November 01, 2003 to March 31, 2006.
Nadene G. Kennedy,
Permit Officer.

[FR Doc. 03-21473 Filed 8-21-03; 8:45 am]

BILLING CODE 7555-01-M